DEPARTMENT OF ENERGY

Federal Energy Regulatory Commission

Combined Notice of Filings #1

Take notice that the Commission received the following exempt wholesale generator filings:

Docket Numbers: EG21-155-000.

Applicants: Mulberry BESS LLC.

Description: Notice of Self-Certification of Exempt Wholesale Generator Status of Mulberry BESS LLC.

Filed Date: 5/17/21.

Accession Number: 20210517-5260.

Comments Due: 5 p.m. ET 6/7/21.

Docket Numbers: EG21-156-000.

Applicants: Ranchland Wind Project, LLC.

Description: Ranchland Wind Project, LLC submits Exempt Wholesale Generator Filing.

Filed Date: 5/21/21.

Accession Number: 20210521-5150.

Comments Due: 5 p.m. ET 6/11/21.

Take notice that the Commission received the following electric corporate filings:

Docket Numbers: EC21-96-000.

Applicants: Sky River LLC, Sky River Wind, LLC.

Description: Application for Authorization Under Section 203 of the Federal Power Act of Sky River LLC, et al.

Filed Date: 5/20/21.

Accession Number: 20210520-5186.

Comments Due: 5 p.m. ET 6/10/21.

Docket Numbers: EC21-97-000.

Applicants: AEP GENERATING CO, Indiana Michigan Power Company.

Description: Application for Authorization Under Section 203 of the Federal Power Act of AEP Generating Company, et al.

Filed Date: 5/20/21.

Accession Number: 20210520-5187.

Comments Due: 5 p.m. ET 6/10/21.

Take notice that the Commission received the following electric rate filings:

Docket Numbers: ER10-2193-003.

Applicants: Hydro-Quebec Energy Services (U.S.) Inc.

Description: Notice of Non-Material Change in Status of H.Q. Energy Services (U.S.) Inc.

Filed Date: 5/19/21.

Accession Number: 20210519-5192.

Comments Due: 5 p.m. ET 6/9/21.

Docket Numbers: ER21-1600-001.

Applicants: Public Service Company of Colorado.

Description: Tariff Amendment: Burlington February 2021 Fuel Cost Adjustment_Eff. 03-2-2021 (Amendment) to be effective 3/12/2021.

Filed Date: 5/21/21.

Accession Number: 20210521-5000.

Comments Due: 5 p.m. ET 6/11/21.

Docket Numbers: ER21-1963-000.

Applicants: Tri-State Generation and Transmission Association, Inc.

Description: Tariff Cancellation: Notice of Cancellation of Rate Schedule FERC No. 305 to be effective 4/15/2021.

Filed Date: 5/21/21.

Accession Number: 20210521-5048.

Comments Due: 5 p.m. ET 6/11/21.

Docket Numbers: ER21-1964-000.

Applicants: Midcontinent Independent System Operator, Inc.

Description: § 205(d) Rate Filing: 2021-05-21_Att X, GIP Site Control Deadline Filing to be effective 7/21/2021.

Filed Date: 5/21/21.

Accession Number: 20210521-5055.

Comments Due: 5 p.m. ET 6/11/21.

Docket Numbers: ER21-1966-000.

Applicants: Broadlands Wind Farm LLC.

Description: § 205(d) Rate Filing: Revised Market-Based Rate Tariff to be effective 5/22/2021.

Filed Date: 5/21/21.

Accession Number: 20210521-5107.

Comments Due: 5 p.m. ET 6/11/21.

Docket Numbers: ER21-1967-000.

Applicants: Crossing Trails Wind Power Project LLC.

Description: § 205(d) Rate Filing: Revised Market-Based Rate Tariff to be effective 5/22/2021.

Filed Date: 5/21/21.

Accession Number: 20210521-5109.

Comments Due: 5 p.m. ET 6/11/21.

Docket Numbers: ER21-1968-000.

Applicants: Headwaters Wind Farm II LLC.

Description: § 205(d) Rate Filing: Revised Market-Based Rate Tariff to be effective 5/22/2021.

Filed Date: 5/21/21.

Accession Number: 20210521-5112.

Comments Due: 5 p.m. ET 6/11/21.

Docket Numbers: ER21-1969-000.

Applicants: Lexington Chenoa Wind Farm LLC.

Description: § 205(d) Rate Filing: Revised Market-Based Rate Tariff to be effective 5/22/2021.

Filed Date: 5/21/21.

Accession Number: 20210521-5116.

Comments Due: 5 p.m. ET 6/11/21.

Docket Numbers: ER21-1970-000.

Applicants: Paulding Wind Farm IV LLC.

Description: § 205(d) Rate Filing: Revised Market-Based Rate Tariff to be effective 5/22/2021.

Filed Date: 5/21/21.

Accession Number: 20210521-5117.

Comments Due: 5 p.m. ET 6/11/21.

Docket Numbers: ER21-1971-000.

Applicants: PacifiCorp.

Description: § 205(d) Rate Filing: BPA NITSA (UIUC) Rev 10 to be effective 5/1/2021.

Filed Date: 5/21/21.

Accession Number: 20210521-5138.

Comments Due: 5 p.m. ET 6/11/21.

Docket Numbers: ER21-1972-000.

Applicants: Union Electric Company.

Description: Notice of Cancellation of Market Based Rate Tariff of TG High Prairie, LLC.

Filed Date: 5/21/21.

Accession Number: 20210521-5145.

Comments Due: 5 p.m. ET 6/11/21.

Docket Numbers: ER21-1973-000.

Applicants: PacifiCorp.

Description: § 205(d) Rate Filing: BPA NITSA (Clark PUD) Rev 3 to be effective 5/1/2021.

Filed Date: 5/21/21.

Accession Number: 20210521-5158.

Comments Due: 5 p.m. ET 6/11/21.

Docket Numbers: ER21-1974-000.

Applicants: ISO New England Inc., New England Power Pool Participants Committee.

Description: § 205(d) Rate Filing: ISO-NE/NEPOOL; Rev to Estb Operational & Meteorological Data Req for Solar/Wind to be effective 7/20/2021.

Filed Date: 5/21/21.

Accession Number: 20210521-5177.

Comments Due: 5 p.m. ET 6/11/21.

Docket Numbers: ER21-1975-000.

Applicants: PacifiCorp.

Description: § 205(d) Rate Filing: BPA NITSA (Yakama) Rev 8 to be effective 5/1/2021.

Filed Date: 5/21/21.

Accession Number: 20210521-5179.

Comments Due: 5 p.m. ET 6/11/21.

Docket Numbers: ER21-1976-000.

Applicants: Duke Energy Florida, LLC.

Description: Tariff Cancellation: DEF—Telogia Cancellation of SA No. 156 to be effective 7/21/2021.

Filed Date: 5/21/21.

Accession Number: 20210521-5181.

Comments Due: 5 p.m. ET 6/11/21.

Docket Numbers: ER21-1977-000.

Applicants: El Paso Electric Company.

Description: Tariff Cancellation: Termination of Rate Schedule No. 115 EPE E&P Agreement w/Southline Transmission to be effective 5/12/2021.

Filed Date: 5/21/21.

Accession Number: 20210521-5193.

Comments Due: 5 p.m. ET 6/11/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 21, 2021.
Debbie-Anne A. Reese,
Deputy Secretary.

[FR Doc. 2021-11238 Filed 5-26-21; 8:45 am]

BILLING CODE 6717-01-P